DEPARTMENT OF ENERGY

Federal Energy Regulatory Commission

[Project No. 2144-038; Project No. 2225-015]

Seattle City Light; Public Utility District No.1 of Pend Orielle County; Notice of Intent to Prepare an Environmental Impact Statement

September 16, 2010.

On September 9, 2009, the City of Seattle, Washington (City) filed an application for a new license for the continued operation of the 1,003-megawatt Boundary Hydroelectric Project (FERC No. 2144). On March 29, 2010, the City and the Public Utility District No. 1 of Pend Oreille, County, Washington (District) filed a joint comprehensive settlement agreement (Settlement), explanatory statement and a request to consolidate the processing of the City's relicensing of the Boundary Hydroelectric Project No. 2144-038, and the District's surrender of its license for the Sullivan Creek Hydroelectric Project No. 2225-013. On April 2, 2010, the District filed an application to surrender the Sullivan Creek Project. Parts of both projects occupy lands within the Colville National Forest.

In accordance with the National Environmental Policy Act (NEPA) and the Commission's regulations, Commission staff held public scoping meetings for the relicensing of the Boundary Project on July 18 and 19, 2006 in Spokane and Metaline Falls, Washington, respectively. On May 11, 2010, the Commission solicited scoping comments on the surrender of the Sullivan Creek Project and noticed a June 10, 2010, technical conference to discuss the Settlement and the scope of issues to be addressed in a combined environmental assessment for both projects. Based on the comments received at the technical conference and in response to the Commission's July 6, 2010 Notice of Application Ready for Environmental Analysis and Soliciting Comments, Recommendations, Preliminary Terms and Conditions, and Preliminary Fishway Prescriptions (REA notice) for both projects, Commission staff has determined that relicensing of the Boundary Project may constitute a major Federal action significantly affecting the quality of the human environment. Therefore, staff now intends to prepare an Environmental Impact Statement (EIS) that addresses both the relicensing of the Boundary Project and the surrender of the Sullivan Creek Project.

A draft EIS will be issued and circulated for review by all interested parties. All comments filed on the draft EIS will be analyzed by the staff and considered in the final EIS. The staff's conclusions and recommendations will be available for the Commission's consideration in reaching its final licensing decision.

The application will be processed according to the following Hydro Licensing Schedule. Revisions to the schedule may be made as appropriate.

Milestone | Target date
Filing of Recommendations, Preliminary Terms and Conditions, and Fishway Prescriptions | September 6, 2010.
Reply Comments due | October 19, 2010.
Issue Draft EIS | March 3, 2011.
Comments on Draft EIS Due | April 18, 2011.
Filing of Modified Mandatory Terms and Conditions | June 17, 2011.
Issue Final EIS | September 15, 2011.

This notice informs all interested individuals, organizations, and agencies with environmental expertise and concerns, that: (1) The Commission staff has decided to prepare an EIS addressing both the relicensing of the Boundary Project and the surrender of the Sullivan Creek Project; and (2) the prior scoping conducted on these projects by Commission staff and comments filed with the Commission on the applications will be taken into account in the EIS.

Any questions regarding this notice may be directed to David Turner at (202) 502-6091, or by e-mail at david.turner@ferc.gov.

Kimberly D. Bose,
Secretary.

[FR Doc. 2010-23685 Filed 9-21-10; 8:45 am]

BILLING CODE 6717-01-P